DEPARTMENT OF VETERANS AFFAIRS

[OMB Control No. 2900-New (0863) ]

Agency Information Collection Activities Under OMB Review

AGENCY: Office of Acquisition and Material Management, Department of Veterans Affairs.

ACTION: Notice.

SUMMARY: In compliance with the Paperwork Reduction Act (PRA) of 1995 (44 U.S.C. 3501-21), this notice announces that the Veterans Office of Acquisition and Material Management (OA&MM), Department of Veterans Affairs, has submitted the collection of information abstracted below to the Office of Management and Budget (OMB) for review and comment. The PRA submission describes the nature of the information collection and its expected cost and burden; it includes the actual data collection instrument.

DATES: Comments must be submitted on or before April 13, 2006.

FOR FURTHER INFORMATION OR A COPY OF THE SUBMISSION CONTACT: Denise McLamb, Records Management Service (005E3), Department of Veterans Affairs, 810 Vermont Avenue, NW, Washington, DC 20420, (202) 565-8374 or FAX (202) 565-6950. Please refer to “OMB Control No. 2900-New (0863).”

Send comments and recommendations concerning any aspect of the information collection to VA's OMB Desk Officer, OMB Human Resources and Housing Branch, New Executive Office Building, Room 10235, Washington, DC 20503 (202) 395-7316. Please refer to “OMB Control No. 2900-New (0863)” in any correspondence.

SUPPLEMENTARY INFORMATION: Title: Department of Veterans Affairs (VA) National Acquisition Center Customer Response Survey, VA Form 0863.

OMB Control Number: 2900-New (0863).

Type of Review: New Collection.

Abstract: VA Form 0863 will be used to collect customer's feedback and suggestions on delivered products and services administered by the National Acquisition Center (NAC). NAC will use the data to improve and/or enhance its program operations for both internal and external customers.

An agency may not conduct or sponsor, and a person is not required to respond to a collection of information unless it displays a currently valid OMB control number. The Federal Register Notice with a 60-day comment period soliciting comments on this collection of information was published on December 09, 2005 at pages 73328.

Affected Public: Federal Government, Businesses or Other for Profit, and State, Local, or Tribal Government.

Estimated Annual Burden: 83 hours.

Estimated Average Burden Per Respondent: 5 minutes.

Frequency of Response: On occasion.

Estimated Number of Respondents: 1,000.

Dated: March 1, 2006.
By direction of the Secretary.
Denise McLamb,
Program Analyst, Records Management Service.

[FR Doc. E6-3637 Filed 3-13-06; 8:45 am]

BILLING CODE 8320-01-P